POSTAL SERVICE

Product Change—Mid-Market—Non-Published Rates

AGENCY: Postal Service™.

ACTION: Notice.

SUMMARY: The Postal Service gives notice of filing a request with the Postal Regulatory Commission to establish a new Mid-Market—Non-Published Rates product, named MMNPR.

DATES: Date of notice: November 29, 2024.

FOR FURTHER INFORMATION CONTACT: Elizabeth Reed, 202-268-3179.

SUPPLEMENTARY INFORMATION: The United States Postal Service® hereby gives notice that on November 22, 2024, it filed with the Postal Regulatory Commission a USPS Request to Establish New Mid-Market—Non-Published Rates Product (MMNPR) and Notice of Filing Materials Under Seal. Documents are available at www.prc.gov, Docket Nos. RM2025-5 and K2025-491.

Colleen Hibbert-Kapler,
Attorney, Ethics and Legal Compliance.

[FR Doc. 2024-27999 Filed 11-27-24; 8:45 am]

BILLING CODE 7710-12-P